DEPARTMENT OF AGRICULTURE

Forest Service

Upper Strawberry Grazing Allotments Environmental Impact Statement

AGENCY: Forest Service, USDA.

ACTION: Notice of intent to prepare an environmental impact statement.

SUMMARY: Pursuant to Section 102(2)(c) of the National Environmental Policy Act of 1969 (NEPA), 40 Code of Federal Regulations 1500-1508 Council on Environmental Quality Regulations, and, the Heber Ranger District of the Uinta National Forest will be preparing an Environmental Impact Statement (EIS) to analyze authorization of livestock grazing by updating allotment management plans (AMPs) on National Forest System lands on three grazing allotments.

DATES: To ensure full consideration, comments on the scope of the EIS must be post-marked or otherwise delivered within 30 days beginning the day following publication of this Notice of Intent.

ADDRESSES: Please submit your written issues or concerns to the Responsible Official: Julie King, District Ranger, Heber Ranger District, P.O. Box 190, Heber City, Utah 84032. Comments may be faxed to (801) 654-5772 or hand delivered to the Heber Ranger district located at 2460 South Highway 40 during normal business hours from 8 am to 5 pm, Monday through Friday. Comments may also be submitted to the following e-mail address: comments-intermtn-uinta-heber@fs.fed.us.

FOR FURTHER INFORMATION CONTACT: Jim Percy, at (435) 654-0470.

SUPPLEMENTARY INFORMATION: As part of the 1995 Rescission Act and its implementing regulations (Public Law 104-19 Section 504(a)), Congress directed the Forest Service to issue term grazing permits where existing permits were due for expiration and provide management direction for the permits in compliance with NEPA, Forest Plan direction, and other relevant laws and regulations. In accordance with the Rescission Act, the Forest Service prioritized those allotments that needed Allotment Management Plans.

Purpose and Need for Action

The purpose and need for this project is to analyze issuance of grazing permits and to maintain or improve rangeland conditions affected by domestic grazing. Grazing is a suitable use of Forest Service Land is permissible through the Multiple Use Act. The Uinta National Forest 2003 Land and Resource Management Plan (Forest Plan) identified some of the land within these allotments in the project area as suitable for domestic livestock grazing.

The need of this proposed action is to continue to provide forage for livestock at sustainable levels. The proposal would also help to meet desired resource conditions including: increased composition and density of desired plant species within riparian areas; an increased density and composition desired grass and forb species on upland range; improved water quality in affected streams within project area; and meeting the State of Utah's Total Maximum Daily Load (TMDL) standards. Proposed management directions have been designed to comply and implement relevant direction for grazing management in the Forest Plan and other applicable laws, regulations and policies.

Proposed Action

The proposed action is to authorize continued livestock grazing, update allotment management plans (AMPs), and allow permitted livestock grazing that meets or moves existing resource conditions toward desired conditions on three national forest grazing allotments while complying with applicable statutes. Adaptive management, which allows flexibility during the implementation of the grazing strategy, would allow managers to make adjustments and corrections to management based on monitoring. A portion of the Twin Peaks and all of the Strawberry Allotment allotments are proposed to be converted from sheep to cattle allotments.

Decisions Framework

Based on the environmental analysis in the EIS, the District Range will decide whether to authorize continued livestock grazing on the project area's suitable rangelands under updated management direction, and if so, what changes need to be made to the respective AMPs in accordance with Forest Plan goal, objectives and desired future conditions.

Alternatives

In addition to the Proposed Action, The No Grazing Alternative and the Current Management will also be analyzed.

Lead and Cooperating Agencies

The Forest Service is the lead agency in accordance with 40 CFR § 1501.5(b), and is responsible for preparation of the EIS. There are no cooperating agencies at this time.

Nature of Decision To Be Made

Based on the environmental analysis in this EIS, the District Ranger will decide whether to authorize continued livestock grazing on the project area's suitable rangelands under updated management direction, and if so, what changes need to be made to the respective allotment management plans in accordance with Forest Plan and desired conditions.

Scoping Process

Public participation will be especially important at several points during the analysis. The Forest Service will be seeking information, comments, and assistance from Federal, State, local agencies, Native American Tribes and other individuals and organizations who may be interested in or affected by the proposal. This input will be used in preparation of the Draft EIS. The scoping process includes:

• Identifying major issues to be analyzed in depth.

• Identifying potential environmental effects of the alternatives identified to date.

• Identifying potential alternatives that meet the Purpose and Need of the project.

• Notifying interested members of the public of opportunities to participate and keeping the public informed.

Preliminary Issues

• Water Quality: Erosion, streambank stability, phosphorous, meeting State of Utah's Total Maximum Daily Load (TMDL) standards.

• Improve vegetation composition (both riparian & upland).

Comment Requested

This notice of intent initiates the scoping process, which guidesdevelopment of the EIS. The Forest Service is seeking public and agency comment on the proposed action to identify major issues to be analyzed in depth and assistance in identifying potential alternatives to be evaluated. Comments received to this notice, including the names and addresses of those who comment, will be considered part of the public record on this proposed action, and will be available for public inspection. Comments submitted anonymously will be accepted and considered; however, those who submit anonymous comments will not have standing to appeal the subsequent decision under 36 CFR Part 215. Additionally, pursuant to 7 CFR 1.27(d), any person may request the agency to withhold a submission from the public record by showing how the Freedom of Information Act (FOIA) permits such confidentiality.

Persons requesting such confidentiality should be aware that, under FOIA, confidentiality may be granted in only very limited circumstances, such as to protect trade secrets. The Forest Service will inform the requester of the agency's decision regarding the request for confidentiality. Where the request is denied, the agency will return the submission and notify the requester that the comments may be resubmitted, without name and address, within a specified number of days.

A Draft EIS will be prepared for comment. Copies will be distributed to interested and affected agencies, organizations, and members of the public for their review and comment. The comment period on the draft environmental impact statement will be 45 days from the date the Environmental Protection Agency publishes the notice of availability in the Federal Register. The Draft EIS is expected to be filed in September 2005. The Final EIS is expected to be filed in February 2006.

The Forest Service believes, at this early stage, it is important to give reviewers notice of several court rulings related to public participation in the environmental review process. First, reviewers of the Draft EIS must structure their participation in the environmental review of the proposal so that it is meaningful and alerts an agency to the reviewer's position and contentions. Vermont Yankee Nuclear Power Corp. v. NRDC, 435 U.S. 519, 553 (1978). Also, environmental objections that could be raised at the Draft EIS stage but that are not raised until after completion of the Final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the Final EIS.

To assist the Forest Service in identifying and considering issues and concerns on the proposed action, comments on the Draft EIS should be as specific as possible. It is also helpful if comments refer to specific pages or chapters of the draft statement. Comments may also address the adequacy of the Draft EIS or the merits of the alternatives formulated and discussed in the statement. Reviewers may wish to refer to the Council on Environmental Quality Regulations for implementing procedural provisions of the National Environmental Policy Act at 40 CFR 1503.3 in addressing these points. In the Final EIS, the Forest Service is required to respond to comments received during the comment period. The Forest Supervisor for the Uinta National Forest will be the responsible official for the EIS and its Record of Decision. The Record of Decision will be subject to Forest Service appeal regulations (36 CFR part 215).

Julie K. King,
District Ranger.

[FR Doc. 05-11335 Filed 6-7-05; 8:45 am]

BILLING CODE 3410-11-P